SECURITIES AND EXCHANGE COMMISSION

17 CFR Parts 229, 239, and 249

[Release Nos. 33-10127; 34-78652; File No. S7-10-16]

RIN 3235-AL53

Extension of Comment Period for Modernization of Property Disclosures for Mining Registrants

AGENCY: Securities and Exchange Commission.

ACTION: Proposed rule; extension of comment period.

SUMMARY: The Securities and Exchange Commission is extending the comment period for a release proposing revisions to the property disclosure requirements for mining registrants and related guidance [Release Nos. 33-10098 and 34-78086 (June 16, 2016)], published June 27, 2016. The original comment period is scheduled to end on August 26, 2016. The Commission is extending the time period in which to provide the Commission with comments until September 26, 2016. This action will allow interested persons additional time to analyze the issues and prepare their comments.

DATES: The comment period for the proposed rule published June 27, 2016, at 81 FR 41651, is extended. Comments should be received on or before September 26, 2016.

ADDRESSES: Comments may be submitted by any of the following methods:

Electronic Comments

• Use the Commission's Internet comment form (http://www.sec.gov/rules/proposed.shtml);

• Send an email to rule-comments@sec.gov. Please include File Number S7-10-16 on the subject line; or

• Use the Federal eRulemaking Portal (http://www.regulations.gov). Follow the instructions for submitting comments.

Paper Comments

• Send paper comments to Brent J. Fields, Secretary, Securities and Exchange Commission, 100 F Street NE., Washington, DC 20549-1090.

All submissions should refer to File Number S7-10-16. This file number should be included on the subject line if email is used. To help us process and review your comments more efficiently, please use only one method. The Commission will post all comments on the Commission's Internet Web site (http://www.sec.gov/rules/proposed.shtml). Comments also are available for Web site viewing and printing in the Commission's Public Reference Room, 100 F Street NE., Washington, DC 20549, on official business days between the hours of 10:00 a.m. and 3:00 p.m. All comments received will be posted without change; we do not edit personal identifying information from submissions. You should submit only information that you wish to make available publicly.

Studies, memoranda or other substantive items may be added by the Commission or staff to the comment file during this rulemaking. A notification of the inclusion in the comment file of any such materials will be made available on the SEC's Web site. To ensure direct electronic receipt of such notifications, sign up through the “Stay Connected” option at www.sec.gov to receive notifications by email.

FOR FURTHER INFORMATION CONTACT: Elliot Staffin, Special Counsel, in the Division of Corporation Finance, at (202) 551-3450, U.S. Securities and Exchange Commission, 100 F Street NE., Washington, DC 20549.

SUPPLEMENTARY INFORMATION: The Commission has requested comment on a release proposing revisions to the property disclosure requirements for mining registrants and related guidance, currently set forth in Item 102 of Regulation S-K under the Securities Act of 1933 and the Securities Exchange Act of 1934 and in Industry Guide 7. The proposed revisions would modernize the Commission's disclosure requirements and policies for mining properties by more closely aligning them with current industry and global regulatory practices and standards. In addition, the proposed revisions would rescind Industry Guide 7, amend section 102 of Regulation S-K, add new exhibit (96) to Item 601 of Regulation S-K, add new subpart 1300 of Regulation S-K, amend Form 1-A and amend Form 20-F.

The Commission originally requested that comments on the release be received by August 26, 2016. The Commission has received requests for an extension of time for public comment on the proposal to, among other things, allow for a more complete assessment of the numerous provisions of the proposed rules, including a fuller consideration of their implications, and to improve the quality of responses.¹ The Commission believes that providing the public additional time to consider thoroughly the matters addressed by the release and to submit comprehensive responses to the release would benefit the Commission in its consideration of final rules. Therefore, the Commission is extending the comment period for Release Nos. 33-10098 and 34-78086, “Modernization of Property Disclosures for Mining Registrants,” until September 26, 2016.

¹ See letter from Michael Johnson, President and CEO of the National Stone, Sand and Gravel Association (July 5, 2016); letter from Douglas Currault II, Deputy General Counsel and Corporate Secretary of Freeport-McMoran Inc. (August 8, 2016); letter from Katie Sweeney, General Counsel of the National Mining Association (August 15, 2016); and letter from Jeffrey Klenda, Chair of Ur-Energy Inc. (August 19, 2016). Comments are available on the Commission's Web site at: https://www.sec.gov/comments/s7-10-16/s71016.htm.

By the Commission.
Dated: August 23, 2016.
Brent J. Fields,
Secretary.

[FR Doc. 2016-20548 Filed 8-25-16; 8:45 am]

BILLING CODE 8011-01-P